DEPARTMENT OF ENERGY

Federal Energy Regulatory Commission

[Docket No. CP93-618-014]

PG&E Gas Transmission, Northwest Corporation, Notice of Annual Report

February 20, 2003.

Take notice that on February 13, 2003, PG&E Gas Transmission, Northwest Corporation (GTN) tendered for filing certain revised schedules to its Medford Lateral “Annual Report on Deferred Revenue Recovery Mechanism and Revenue Reconciliation for the Year Ending October 31, 2002.”

GTN asserts that the purpose of this filing is to include revenue from an additional transportation contract as an offset to Avista's deferred account balance.

GTN further states that a copy of this filing has been served on GTN's jurisdictional customers and interested state regulatory agencies, as well as the Official Service list compiled by the Secretary in this proceeding.

Any person desiring to protest said filing should file a protest with the Federal Energy Regulatory Commission, 888 First Street, NE., Washington, DC 20426, in accordance with section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 27, 2003.

Magalie R. Salas,
Secretary.

[FR Doc. 03-4463 Filed 2-25-03; 8:45 am]

BILLING CODE 6717-01-P